DEPARTMENT OF JUSTICE

Drug Enforcement Administration

Manufacturer of Controlled Substances; Notice of Application

Pursuant to § 1301.33(a) of Title 21 of the Code of Federal Regulations (CFR), this is notice that on August 17, 2005, Cerilliant Corporation, 811 Paloma Drive, Suite A, Round Rock, Texas 78664, made application by renewal to the Drug Enforcement Administration (DEA) for registration as a bulk manufacturer of the basic classes of controlled substances listed in Schedule I and II:

Drug | Schedule
Cathinone (1235) | I
Methcathinone (1237) | I
N-Ethylamphetamine (1475) | I
N,N-Dimethylamphetamine (1480) | I
Aminorex (1585) | I
4-Methylaminorex (cis isomer) (1590) | I
Gamma Hydroxybutyric acid (2010) | I
Methaqualone (2565) | I
Alpha-Ethyltryptamine (7249) | I
Lysergic acid diethylamide (7315) | I
Marihuana (7360) | I
Tetrahydrocannabinols (7370) | I
Mescaline (7381) | I
3,4,5-Trimethoxyamphetamine (7390) | I
4-Bromo-2,5-dimethoxyamphetamine (7391) | I
4-Bromo-2,5-dimethoxyphenethylamine (7392) | I
4-Methyl-2,5-dimethoxyamphetamine (7395) | I
2,5-Dimethoxyamphetamine (7396) | I
2,5-Dimethoxy-4-ethylamphetamine (7399) | I
3,4-Methylenedioxyamphetamine (7400) | I
5-Methoxy-3,4-methylenedioxyamphetamine (7401) | I
N-Hydroxy-3,4-methylendioxyamphetamine (7402) | I
3,4-Methylendioxy-N-ethylamphetamine (7404) | I
3,4-Methylenedioxymethamphetamine (7405) | I
4-Methoxyamphetamine (7411) | I
Bufotenine (7433) | I
Diethyltryptamine (7434) | I
Dimethyltryptamine (7435) | I
Psilocybin (7437) | I
Psilocyn (7438) | I
Acetyldihydrocodeine (9051) | I
Benzylmorphine (9052) | I
Codeine-N-oxide (9053) | I
Dihydromorphine (9145) | I
Heroin (9200) | I
Hydromorphinol (9301) | I
Methyldihydromorphine (9304) | I
Morphine-N-oxide (9307) | I
Normorphine (9313) | I
Pholcodine (9314) | I
Acetylmethadol (9601) | I
Allylprodine (9602) | I
Alphacetylmethadol except levo-alphacetylmethadol (9603) | I
Alphameprodine (9604) | I
Alphamethadol (9605) | I
Betacetylmethadol (9607) | I
Betameprodine (9608) | I
Betamethadol (9609) | I
Betaprodine (9611) | I
Hydroxypethidine (9627) | I
Noracymethadol (9633) | I
Norlevorphanol (9634) | I
Normethadone (9635) | I
Trimeperidine (9646) | I
Phenomorphan (9647) | I
Para-Fluorofentanyl (9812) | I
3-Methylfentanyl (9813) | I
Alpha-Methylfentanyl (9814) | I
Acetyl-alpha-methylfentanyl (9815) | I
Beta-hydroxyfentanyl (9830) | I
Beta-hydroxy-3-methylfentanyl (9831) | I
Alpha-Methylthiofentanyl (9832) | I
3-Methylthiofentanyl (9833) | I
Thiofentanyl (9835) | I
Amphetamine (1100) | II
Methamphetamine (1105) | II
Phenmetrazine (1631) | II
Methylphenidate (1724) | II
Ambobarbital (2125) | II
Pentobarbital (2270) | II
Secobarbital (2315) | II
Glutethimide (2550) | II
Nabilone (7379) | II
1-Phenylcyclohexylamine (7460) | II
Phencyclidine (7471) | II
1-Piperidinocyclohexanecarbonitrile (8603) | II
Alphaprodine (9010) | II
Cocaine (9041) | II
Codeine (9050) | II
Dihydrocodeine (9120) | II
Oxycodone (9143) | II
Hydromorphone (9150) | II
Diphenoxylate (9170) | II
Benzoylecgonine (9180) | II
Ethylmorphine (9190) | II
Hydrocodone (9193) | II
Levomethorphan (9210) | II
Levorphanol (9220) | II
Isomethadone (9226) | II
Meperidine (9230) | II
Methadone (9250) | II
Methadone intermediate (9254) | II
Dextropropoxyphene, bulk (non-dosage forms) (9273) | II
Morphine (9300) | II
Thebaine (9333) | II
Levo-alphacetylmethadol (9648) | II
Oxymorphone (9652) | II
Noroxymorphone (9668) | II
Racemethorphan (9732) | II
Alfentanil (9737) | II
Sufentanil (9740) | II
Fentanyl (9801) | II

The company plans to manufacture small quantities of the listed controlled substances to make reference standards which will be distributed to their customers.

Any other such applicant and any person who is presently registered with DEA to manufacture such a substance may file comments or objections to the issuance of the proposed registration pursuant to 21 CFR 1301.33(a).

Any such written comments or objections being sent via regular mail may be addressed, in quintuplicate, to the Deputy Assistant Administrator, Office of Diversion Control, Drug Enforcement Administration, Washington, DC 20537, Attention: DEA Federal Register Representative, Liaison and Policy Section (ODL); or any being sent via express mail should be sent to DEA Headquarters, Attention: DEA Federal Register Representative/ODL, 2401 Jefferson-Davis Highway, Alexandria, Virginia 22301; and must be filed no later than (60 days from publication).

Dated: January 11, 2006.
Joseph T. Rannazzisi,
Deputy Assistant Administrator, Office of Diversion Control, Drug Enforcement Administration.

[FR Doc. E6-720 Filed 1-20-06; 8:45 am]

BILLING CODE 4410-09-P